DEPARTMENT OF TRANSPORTATION

Federal Highway Administration

Notice of Final Federal Agency Action on Proposed Highway in Arizona

AGENCY: Federal Highway Administration (FHWA); DOT; U.S. Army Corps of Engineers (USACE).

ACTION: Notice of limitation on claims for judicial review of actions by the USACE.

SUMMARY: The FHWA is issuing this notice to announce action taken by the USACE that are final within the meaning of the United States Code. The action relates to the construction of the South Mountain Freeway/Loop 202 Project (Project) in Maricopa County, in the Phoenix Metropolitan Area, in the State of Arizona. The USACE granted a Department of the Army permit, pursuant to Section 404 of the Clean Water Act, as amended, authorizing the Arizona Department of Transportation (AZDOT) to discharge dredged or fill material into Waters of the United States at specified locations related to the Project.

DATES: By this notice the FHWA is advising the public of final agency actions subject to 23 U.S.C. 139(l)(1). A claim seeking judicial review of the identified Federal agency action related to the Project will be barred unless the claim is filed on or before April 19, 2018. If the Federal law that authorizes judicial review of a claim provides a time period of less than 150 days for filing such claim, then that shorter time period still applies.

FOR FURTHER INFORMATION CONTACT:

For FHWA: Mr. Alan Hansen, Team Leader Planning, Environment, Air Quality, and Realty Team, Federal Highway Administration, 4000 N. Central Avenue, Suite 1500, Phoenix, Arizona 85012-3500; telephone: (602) 379-3646, fax: (602) 382-8998, email: Alan.Hansen@dot.gov. The FHWA Arizona Division Office's normal business hours are 7:30 a.m. to 4 p.m. (Mountain Standard Time).

For USACE: Department of the Army, Los Angeles District, U.S. Army Corps of Engineers Regulatory Division, Attn: David Castanon, Regulatory Division Chief, 915 Wilshire Blvd., Los Angeles, CA 90017; email: david.j.castanon@usace.army.mil; telephone: (213) 452-3406.

For AZDOT: Julie Gadsby, Asst. District Engineer, Arizona Department of Transportation, 2140 Hilton Ave., Phoenix, AZ 85009; email: jgadsby@azdot.gov; telephone: (602) 712-7677.

SUPPLEMENTARY INFORMATION: Notice is hereby given that USACE has taken final agency action by issuing certain approval related to the Project. The action related the Project, as well as the laws under which such actions were taken, are described in the Department of the Army Permit and related documents in the USACE administrative record for the permit action. Interested parties may contact the USACE Los Angeles District Regulatory Division Office for more information on the USACE's permit decision. Contact information for the appropriate USACE representative is above.

This notice applies to all claims seeking judicial review of the Department of the Army permit, and all laws under which such action was taken, including, but not limited to the National Environmental Policy Act [42 U.S.C. 4321-4375], the Clean Water Act and the Federal Water Pollution Control Act [33 U.S.C. 1251-1388]. This notice does not, however, alter or extend the limitations period for challenges of Project decisions subject to the Federal Highway Administration notice regarding the Project published in the Federal Register on March 5, 2015 pursuant to Section 139 of Title 23 United States Code.

The Project and actions that are the subject of this notice are:

Project name and location: South Mountain Freeway/Loop 202, Maricopa County, AZ.

Project Sponsor: The Arizona Department of Transportation (AZDOT).

Project description: The Project includes the construction and operation of a 22-mile, eight-lane highway connecting Interstate 10 (Papago Freeway) to Interstate 10 (Maricopa Freeway). The Project begins in the Eastern portion at the intersection of Interstate 10 and State Route 202 near 41st Street in Chandler Arizona and continues generally westward along the existing Pecos Road, bordering the Gila River Indian Community's lands. The Project continues through a portion of the South Mountain Park/Preserve, as it turns north, roughly following 59th Avenue until it connects to Interstate 10 just north of Van Buren Street. Portions of the Project will pass through Laveen and Estrella villages in the west and will border both the Desert Foothills and Ahwatukee communities in the East. The Project includes approximately 15 interchanges, including two direct connections to Interstate 10 East and Loop 202 (Santan Freeway), in addition to a shared-use path, multi-use underpass crossings, a pedestrian bridge near Elwood Street, and two 2,700 foot long bridge crossings of the Salt River, as well as widening and improvements to Interstate 10 East.

Final agency actions: Department of the Army permit issued pursuant to Section 404 Clean Water Act effective November 9, 2017.

Supporting documentation: USACE Record of Decision issued November 9, 2017.

The USACE decision and permit No. SPL-2202-00055 are available by contacting USACE at the address provided above, and can be viewed and downloaded from http://www.spl.usace.army.mil/Missions/Regulatory/Projects-Programs/.

This notice applies to all Federal agency decisions as of the issuance date of this notice and all laws under which the final action was taken, including but not limited to:

1. General: National Environmental Policy Act (NEPA) [42 U.S.C. 4321-4351].

2. Air: Clean Air Act [42 U.S.C. 7506(c)].

3. Wildlife: Endangered Species Act [16 U.S.C. 1531-1544 and Section 1536], Fish and Wildlife Coordination Act [16 U.S.C. 661-667(d)], Migratory Bird Treaty Act [16 U.S.C. 703-712].

4. Historic and Cultural Resources: Section 106 of the National Historic Preservation Act of 1966, as amended [54 U.S.C. 306108 et seq.].

5. Social and Economic: Civil Rights Act of 1964 [42 U.S.C. 2000(d)-2000(d)(1)]; American Indian Religious Freedom Act [42 U.S.C. 1996].

6. Water: Clean Water Act [33 U.S.C. 1251-1387].

7. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: November 14, 2017.
Karla S. Petty,
Division Administrator.

[FR Doc. 2017-25069 Filed 11-17-17; 8:45 am]

BILLING CODE P